DEPARTMENT OF TRANSPORTATION

Federal Aviation Administration

14 CFR Part 39

[Docket No. 2000-SW-38-AD]

RIN 2120-AA64

Airworthiness Directives; Marathon Power Technologies Company

AGENCY: Federal Aviation Administration, DOT.

ACTION: Proposed rule; withdrawal.

SUMMARY: This action withdraws a notice of proposed rulemaking (NPRM) that proposed a new airworthiness directive (AD) for Marathon Power Technologies Company (Marathon) batteries. That action would have required visually inspecting screws installed on Marathon batteries and replacing certain unairworthy screws. Since issuing the NPRM, the FAA has reconsidered the proposal and determined that an AD is not the appropriate avenue for addressing individual cases of improper maintenance or lack of maintenance that prompted the proposal. Accordingly, the proposed rule is withdrawn.

FOR FURTHER INFORMATION CONTACT: Sung-Hui Cavazos, Aviation Safety Engineer, FAA, Special Certification Office, Fort Worth, TX 76193-0190; telephone (817) 222-5142, fax (817) 222-5785.

SUPPLEMENTARY INFORMATION: A proposal to amend 14 CFR part 39 to add a new AD for Marathon batteries was published in the Federal Register on February 14, 2001 (66 FR 10241). The proposed rule would have required visually inspecting each #10-32 screw in certain Marathon batteries within 12 months or the next scheduled battery maintenance and, before further flight, replacing any unairworthy screw with an airworthy screw, part number 10488-020. That action was prompted by an explosion of a G.E./Saft battery due to failure of an unairworthy screw. The proposed actions were intended to prevent an explosion of a battery, structural damage, and subsequent loss of power to the electrical systems.

Since issuing that NPRM, the FAA has concluded that the explosion of the G.E./Saft battery and the other batteries that contained the unairworthy screws that prompted the proposal resulted from individual cases of improper maintenance or lack of maintenance due to failure to follow normal maintenance practices on a product.

Upon further consideration, the FAA has determined that the issue of the unairworthy screws is limited in scope and may be more effectively addressed as improper maintenance procedures. Accordingly, the proposed rule is hereby withdrawn.

Withdrawal of this NPRM constitutes only such action and does not preclude the agency from issuing another notice in the future, nor does it commit the agency to any course of action in the future.

Since this action only withdraws an NPRM, it is neither a proposed nor a final rule and therefore, is not covered under Executive Order 12866, Executive Order 13132, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket No. 2000-SW-38-AD, published in the Federal Register on February 14, 2001 (66 FR 10241), is withdrawn.

Issued in Fort Worth, Texas, on September 19, 2002.
Eric D. Bries,
Acting Manager, Rotorcraft Directorate, Aircraft Certification Service.

[FR Doc. 02-24990 Filed 10-1-02; 8:45 am]

BILLING CODE 4910-13-P